DEPARTMENT OF THE INTERIOR

Fish and Wildlife Service

[Docket No. FWS-R9-MB-2010-0060; 91200-1231-9BPP]

Migratory Birds; Take of Migrant Peregrine Falcons for Use in Falconry

AGENCY: Fish and Wildlife Service, Interior.

ACTION: Notice.

SUMMARY: In December 2008, we completed an Environmental Assessment (EA) on take of peregrine falcons for use in falconry. This notice is to inform the public of the allocation of take of migrant peregrine falcons in 2010 agreed on by the States.

FOR FURTHER INFORMATION CONTACT: Dr. George Allen, Division of Migratory Bird Management, U.S. Fish and Wildlife Service, at 703-358-1825.

SUPPLEMENTARY INFORMATION: Our authority to govern take of raptors is derived from the Migratory Bird Treaty Act (16 U.S.C. 703-712), which prohibits any person from taking, possessing, purchasing, bartering, selling, or offering to purchase, barter, or sell, among other things, raptors (birds of prey) listed in 50 CFR 10.13 unless the activities are allowed under Federal regulations. Take and possession of raptors for use in falconry is governed by regulations at 50 CFR 21.29.

We completed an EA on take of migrant peregrine falcons in 2008 (73 FR 74508; December 8, 2008). Our preferred alternative allows a take of 36 fall first-year (passage) migrant peregrine falcons from 20 September through 20 October, from anywhere in the United States east of 100 degrees W longitude. Allocation of the 36 passage peregrine falcons to be taken from the United States east of 100 degrees W longitude was agreed upon by the Atlantic, Mississippi, and Central Flyways. We expect the allowed take of the passage peregrines in 2010 to be as follows:

State | Allowed take
Atlantic Flyway
Maine | 2
Maryland | 2
Virginia | 1
North Carolina | 2
South Carolina | 1
Georgia | 2
Florida | 2
Mississippi Flyway
Minnesota | 1
Arkansas | 3
Mississippi | 8
Central Flyway
Oklahoma | 1
Texas | 11
Total | 36

Interested individuals will need to contact each State that will allow take of passage peregrine falcons to learn whether the State will allow take by a resident of another State.

We expect the Flyways to review the allocation of the take of passage peregrines each year. We will continue to work with them on the issue, and may publish notices about it in the future. As noted in the Final EA on take of migrant peregrines, we will review population and harvest data for Canada, the United States, and Mexico every 5 years, or at the request of the Flyway Councils, to reassess the allowable harvest limits. We will publish a notice in the Federal Register if we determine that the take of passage peregrine falcons should be changed.

Dated: August 27, 2010.
Wendi Weber,
Acting Director, U.S. Fish and Wildlife Service.

[FR Doc. 2010-23137 Filed 9-15-10; 8:45 am]

BILLING CODE 4310-55-P